DEPARTMENT OF COMMERCE

International Trade Administration

[A-533-810]

Stainless Steel Bar From India: Notice of Preliminary Results and Partial Rescission of Antidumping Duty Administrative Review

AGENCY: Import Administration, International Trade Administration, Department of Commerce.

SUMMARY: The Department of Commerce is conducting an administrative review of the antidumping duty order on stainless steel bar from India. The period of review is February 1, 2006, through January 31, 2007. This review covers imports of stainless steel bar from two producers/exporters. We preliminarily find that sales of the subject merchandise have been made below normal value. Also, we are rescinding this administrative review with respect to a third producer/exporter. If these preliminary results are adopted in our final results, we will instruct U.S. Customs and Border Protection to assess antidumping duties on appropriate entries. Interested parties are invited to comment on these preliminary results. We will issue the final results no later than 120 days from the date of publication of this notice.

DATES: Effective Date: March 7, 2008.

FOR FURTHER INFORMATION CONTACT: Devta Ohri or Scott Holland, AD/CVD Operations, Office 1, Import Administration, International Trade Administration, U.S. Department of Commerce, 14th Street and Constitution Avenue, NW., Washington DC 20230; telephone (202) 482-3853 and (202) 482-1279, respectively.

SUPPLEMENTARY INFORMATION:

Background

On February 21, 1995, the Department of Commerce (the “Department”) published in the Federal Register the antidumping duty order on stainless steel bar (“SSB”) from India. See Antidumping Duty Orders: Stainless Steel Bar from Brazil, India and Japan, 60 FR 9661 (February 21, 1995). On February 2, 2007, the Department published a notice in the Federal Register providing an opportunity for interested parties to request an administrative review of the antidumping duty order on SSB from India for the period of review (“POR”) February 1, 2006, through January 31, 2007. See Antidumping or Countervailing Duty Order, Finding, or Suspended Investigation; Opportunity To Request Administrative Review, 72 FR 5007 (February 2, 2007).

On February 27, 2007, we received a timely request for review from Venus Wire Industries Private Limited (“Venus”). On February 28, 2007, we received a timely request for review from D.H. Exports Pvt. Ltd. (“DHE”), Chandan Steel Ltd. (“Chandan”), Facor Steels, Ltd. (“Facor”), Mukand Ltd. (“Mukand”), and Sunflag Iron & Steel Co. Ltd. (“Sunflag”). On March 7, 2007, we received a letter from Mukand and Facor withdrawing their requests for review. On March 20, 2007, we received a letter from Venus withdrawing its request for review.

On March 28, 2007, in accordance with section 751(a) of the Tariff Act of 1930, as amended (“the Act”), we initiated an administrative review on Chandan, DHE, and Sunflag. See Initiation of Antidumping and Countervailing Duty Administrative Reviews, 72 FR 14516 (March 28, 2007) (“Initiation Notice”).

On March 28, 2007, the Department issued antidumping duty questionnaires to the respondents. The respondents submitted their initial responses to the antidumping questionnaire in May, June, August, and September 2007. The petitioners ¹ submitted comments on the questionnaire responses in May, June, July, September, October, and November 2007; and February 2008. We issued supplemental questionnaires to the respondents to clarify or correct information contained in the initial questionnaire responses.

¹ Carpenter Technology Corporation, Valbruna Slater Stainless, Inc., Electralloy Corporation, a Division of G.O. Carlson, Inc.

On May 25, 2007, we received a letter from Chandan withdrawing its request for administrative review.

On June 19, 2007, the petitioners alleged that DHE made sales below the cost of production (“COP”). The petitioners submitted information to supplement their June 19, 2007, below-cost allegation on June 21, 2007. We found that the petitioners' allegation provided a reasonable basis to believe or suspect that sales by DHE in the home market had been made at prices below the COP, and initiated a sales-below-cost investigation on July 24, 2007. See Memorandum from Chris Zimpo, Office of Accounting, to Susan Kuhbach, Senior Office Director, Office 1, AD/CVD Operations, “Petitioners' Allegation of Sales Below the Cost of Production for D.H. Exports Pvt. Ltd.,” dated July 24, 2007 (“DHE Sales-Below-Cost Memorandum”). On July 24, 2007, we requested that DHE respond to the Section D COP section of the Department's original questionnaire. DHE filed its response to Section D on September 3, 2007.

On June 22, 2007, the petitioners alleged that Sunflag made sales below the COP. We found that the petitioners' allegation provided a reasonable basis to believe or suspect that sales by Sunflag in the home market had been made at prices below the COP and initiated a sales-below-cost investigation on June 25, 2007. See Memorandum from Devta Ohri, International Trade Compliance Analyst, to Susan Kuhbach, Senior Office Director, Office 1, AD/CVD Operations, “Petitioners' Allegation of Sales Below the Cost of Production for Sunflag Iron & Steel Co. Ltd.,” dated July 25, 2007 (“Sunflag Sales-Below-Cost Memorandum”). On July 25, 2007, we requested that Sunflag respond to the Section D COP section of the Department's original questionnaire. Sunflag filed its response to Section D on August 29, 2007.

On October 18, 2007, the Department found that, due to the complexity of the issues in this case, including affiliation and COP, and outstanding supplemental responses, it was not practicable to complete this review within the time period prescribed. Accordingly, we extended the time limit for completing the preliminary results of this review to no later than February 28, 2008, in accordance with section 751(a)(3)(A) of the Act. See Stainless Steel Bar from India: Extension of Time Limit for the Preliminary Results of the Antidumping Duty Administrative Review, 72 FR 60639 (October 25, 2007).

On February 8, 2008, the petitioners filed a request asking the Department to apply total adverse facts available pursuant to section 776 of the Act against Sunflag on the allegation that Sunflag has withheld information regarding numerous affiliated parties, many of which petitioners claim are directly or indirectly involved with subject merchandise. In addition, the petitioners argued that even for those companies that Sunflag has previously acknowledged as being affiliated parties, Sunflag has failed to disclose the involvement of these companies with subject merchandise. The Department plans to issue a supplemental questionnaire following the preliminary results to examine this issue further.

Scope of the Order

Imports covered by the order are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, our written description of the scope of the order is dispositive.

On May 23, 2005, the Department issued a final scope ruling that SSB manufactured in the United Arab Emirates out of stainless steel wire rod from India is not subject to the scope of this order. See Memorandum from Team to Barbara E. Tillman, “Antidumping Duty Orders on Stainless Steel Bar from India and Stainless Steel Wire Rod from India: Final Scope Ruling,” dated May 23, 2005, which is on file in the Central Records Unit in room 1117 of the main Department building. See also Notice of Scope Rulings, 70 FR 55110 (September 20, 2005).

Period of Review

The POR is February 1, 2006, through January 31, 2007.

Applicable Statute

Unless otherwise indicated, all citations to the Act are references to the provisions effective January 1, 1995, the effective date of the amendments made to the Act by the Uruguay Round Agreements Act. In addition, all references to the Department of Commerce's regulations are to 19 CFR 351 (2007).

Partial Rescission of Administrative Review

The Department's regulations state that the Department will rescind an administrative review if the party that requested the review withdraws the request within 90 days of the date of publication of the notice of initiation of the requested review. See 19 CFR 351.213(d)(1). As noted above, the Department initiated this antidumping duty administrative review on March 28, 2007. See Initiation Notice. On May 25, 2007, we received a letter from Chandan withdrawing its request for administrative review. Chandan's withdrawal request was within 90 days of initiation. Accordingly, we are rescinding this administrative review with respect to Chandan.

Fair Value Comparisons

To determine whether sales of SSB by Sunflag to the United States were made at less than NV, we compared export price (“EP”) to normal value (“NV”). To determine whether sales of SSB by DHE to the United States were made at less than NV, we compared constructed export price (“CEP”) to NV. See “Export Price and Constructed Export Price” and “Normal Value” sections of this notice. Pursuant to section 777A(d)(2) of the Act, we compared the EPs and CEPs of individual U.S. transactions to the weighted-average NV of the foreign-like product, where there were sales made in the ordinary course of trade, as discussed in the “Cost of Production Analysis” section, below.

Product Comparisons

In accordance with section 771(16) of the Act, we considered all products sold by the respondents in the comparison market covered by the description in the “Scope of the Order” section, above, to be foreign-like products for purposes of determining appropriate product comparisons to U.S. sales. In accordance with section 773(a)(1)(C)(ii) of the Act, in order to determine whether there was a sufficient volume of sales in the home market to serve as a viable basis for calculating NV, we compared each respondent's volume of home market sales of the foreign-like product to the volumes of its U.S. sales of the subject merchandise. See the “Normal Value” section, below, for further details.

We compared U.S. sales to monthly weighted-average prices of contemporaneous sales made in the home market based on the following criteria: (1) General type of finish, (2) Grade, (3) Remelting, (4) Type of final finishing operation, (5) Shape, and (6) Size. This was consistent with our practice in the original investigation. See Preliminary Determination of Sales at Less than Fair Value and Postponement of Final Determination: Stainless Steel Bar from India, 59 FR 39733-35 (August 4, 1994); unchanged in the final. See Notice of Final Determination of Sales at Less Than Fair Value: Stainless Steel Bar from India, 59 FR 66915 (December 28, 1994). Where there were no home market sales of foreign-like product that were identical in these respects to the merchandise sold in the United States, we compared U.S. products with the most similar merchandise sold in the home market based on the characteristics listed above, in that order of priority.

Export Price and Constructed Export Price

For the price to the United States, we used, as appropriate, EP or CEP, as defined in sections 772(a) and 772(b) of the Act, respectively. Section 772(a) of the Act defines EP as the price at which the subject merchandise is first sold before the date of importation by the producer or exporter outside of the United States to an unaffiliated purchaser in the United States or to an unaffiliated purchaser for exportation to the United States, as adjusted under section 772(c) of the Act. Section 772(b) of the Act defines CEP as the price at which the subject merchandise is first sold in the United States before or after the date of importation by or for the account of the producer or exporter of such merchandise or by a seller affiliated with the producer or exporter, to a purchaser not affiliated with the producer or exporter, as adjusted under sections 772(c) and (d) of the Act.

We made company-specific adjustments as follows:

(A) DHE

In accordance with section 772(b) of the Act, we calculated CEP for those sales to the first unaffiliated purchaser that took place after importation into the United States. We based CEP on packed CIF and C&F duty-paid prices to unaffiliated purchasers in the United States. We identified the starting price and made deductions for movement expenses, including domestic inland freight, international freight, marine insurance, brokerage and handling, U.S. customs duties, and other transportation expenses, where appropriate, in accordance with section 772(c)(2)(A) of the Act. In accordance with section 772(d)(1) of the Act, we deducted those selling expenses associated with economic activities occurring in the United States, including direct and indirect selling expenses. We re-calculated DHE's indirect selling expenses based upon information submitted by DHE for its affiliate in the United States. See Memorandum from the Team to the File “Preliminary Results Calculation Memorandum for D.H. Exports Pvt. Ltd.,” dated February 28, 2008 (“DHE Preliminary Results Calculation Memorandum”). Lastly, we made an adjustment for profit in accordance with section 772(d)(3) of the Act.

(B) Sunflag

We calculated EP because the merchandise was sold prior to importation by the exporter or producer outside the United States to the first unaffiliated purchaser in the United States, and because CEP methodology was not otherwise warranted. We based EP on the packed, CFR price to unaffiliated purchasers in the United States. We made deductions from the starting price for movement expenses in accordance with section 772(c)(2)(A) of the Act. These included, where appropriate, warehousing charges at the port of loading, inland freight incurred in transporting merchandise to the Indian port, inland insurance expenses, domestic brokerage and handling expenses, and international freight. See Memorandum from the Team to the File “Preliminary Results Calculation Memorandum for Sunflag Iron & Steel Co. Ltd.,” dated February 28, 2008 (“Sunflag Preliminary Results Calculation Memorandum”).

Duty Drawback

Section 772(c)(1)(B) of the Act provides that EP or CEP shall be increased by among other things, “the amount of any import duties imposed by the country of exportation which have been rebated, or which have not been collected, by reason of the exportation of the subject merchandise to the United States.” The Department determines that an adjustment to U.S. price for claimed duty drawback is appropriate when a company can demonstrate that: (1) The “import duty and rebate are directly linked to, and dependent upon, one another;” and (2) “the company claiming the adjustment can show that there were sufficient imports of the imported raw materials to account for the drawback received on the exported product.” Rajinder Pipes, Ltd. v. United States, 70 F. Supp. 2d 1350, 1358 (Ct. Int'l Trade 1999).

DHE claimed a duty drawback adjustment based on its participation in the Indian government's Duty Entitlement Passbook Program. The Department finds that DHE has not provided substantial evidence on the record to establish the necessary link between the import duty and the reported duty drawback. Therefore, because DHE has failed to meet the Department's requirements, we are denying DHE's request for a duty drawback adjustment for the preliminary results. See DHE Preliminary Results Calculation Memorandum.

Sunflag did not claim a duty drawback adjustment.

Normal Value

A. Home Market Viability

Section 773(a)(1) of the Act directs that NV be based on the price at which the foreign-like product is sold in the home market, provided that the merchandise is sold in sufficient quantities (or value, if quantity is inappropriate) and that there is no particular market situation that prevents a proper comparison with the EP and CEP. Section 773(a)(1)(B)(ii)(II) of the Act contemplates that quantities (or value) will normally be considered insufficient if they are less than five percent of the aggregate quantity (or value) of sales of the subject merchandise to the United States.

In order to determine whether there was a sufficient volume of sales in the home market to serve as a viable basis for calculating NV, we compared each respondent's volume of home market sales of the foreign-like product to its volume of U.S. sales of the subject merchandise, in accordance with section 773(a)(1)(C) of the Act.

DHE and Sunflag reported that their home market sales of SSB during the POR were more than five percent of their sales of SSB to the United States. Therefore, DHE's and Sunflag's home markets were viable for purposes of calculating NV. Accordingly, DHE and Sunflag reported their home market sales.

To derive NV for the respondents, we made the adjustments detailed in the “Calculation of Normal Value Based on Home Market Prices” section below.

B. Level of Trade

Section 773(a)(1)(B)(i) of the Act states that, to the extent practicable, the Department will calculate NV based on sales at the same level of trade (“LOT”) as the EP or CEP. Sales are made at different LOTs if they are made at different marketing stages (or their equivalent). See 19 CFR 351.412(c)(2). Substantial differences in selling activities are a necessary, but not sufficient, condition for determining that there is a difference in the stages of marketing. Id.; see also Notice of Final Determination of Sales at Less Than Fair Value: Certain Cut-to-Length Carbon Steel Plate From South Africa, 62 FR 61731, 61732 (November 19, 1997). In order to determine whether the comparison sales were at different stages in the marketing process than the U.S. sales, we reviewed the distribution system in each market (i.e., the “chain of distribution”),⁴ including selling functions,⁵ class of customer (“customer category”), and the level of selling expenses for each type of sale.

⁴ The marketing process in the United States and comparison market begins with the producer and extends to the sale to the final user or customer. The chain of distribution between the two may have many or few links, and each respondent's sales occur somewhere along this chain. In performing this evaluation, we considered each respondent's narrative response to properly determine where in the chain of distribution the sale occurs.

⁵ Selling functions associated with a particular chain of distribution help us to evaluate the LOT(s) in a particular market. For purposes of these preliminary results, we have organized the common selling functions into four major categories: sales process and marketing support, freight and delivery, inventory and warehousing, and quality assurance/warranty services.

Pursuant to section 773(a)(1)(B)(i) of the Act, in identifying LOTs for EP and comparison market sales (i.e., NV based on either comparison market or third country prices),⁶ we consider the starting prices before any adjustments. For CEP sales, we consider only the selling expenses reflected in the price after the deduction of expenses and profit under section 772(d) of the Act. See Micron Technology, Inc. v. United States, 243 F. 3d 1301, 1314-1315 (Fed. Cir. 2001).

⁶ Where NV is based on constructed value (“CV ”), we determine the NV LOT based on the LOT of the sales from which we derive selling expenses, G&A and profit for CV, where possible.

When the Department is unable to match U.S. sales to sales of the foreign-like product in the comparison market at the same LOT as the EP or CEP, the Department may compare the U.S. sale to sales at a different LOT in the comparison market. In comparing EP or CEP sales at a different LOT in the comparison market, where available data make it practicable, we make an LOT adjustment under section 773(a)(7)(A) of the Act. Finally, for CEP sales only, if an NV LOT is more remote from the factory than the CEP LOT and we are unable to make an LOT adjustment, the Department shall grant a CEP offset, as provided in section 773(a)(7)(B) of the Act. See Notice of Final Determination of Sales at Less Than Fair Value: Certain Cut-to-Length Carbon Steel Plate from South Africa, 62 FR 61731, 61745 (November 19, 1997).

In this review, we determined the following, with respect to the LOT, for each respondent.

(A) DHE

We obtained information from DHE regarding the marketing stages involved in making the reported home market and U.S. sales, including a description of the selling activities performed for each channel of distribution. DHE did not request an LOT adjustment. Our LOT findings are summarized below.

DHE reported that it sells to manufacturers and trading companies in the home market, and to trading companies in the United States. DHE reported that it made CEP sales in the U.S. market through a single channel of distribution: sales of DHE-produced SSB to its U.S. affiliate Liaison Stainless Inc. (“LSI”). Therefore, we find that all CEP sales constitute one LOT.

With respect to the home market, DHE reported a single LOT and a single channel of distribution (i.e., factory direct sales) through which it sold SSB to unaffiliated customers. According to DHE, its direct sales to manufacturers and trading companies constitute one distinct LOT in the home market.

Finally, we compared the CEP LOT to the home market LOT and found that the selling functions performed for home market sales are either performed at the same degree of intensity as, or vary only slightly from, the selling functions performed on U.S. sales. Specifically, we found that the sales process, freight and delivery, advertising activities, technical service and warranty service are performed by DHE at the same level of intensity in both the U.S. and home markets. With respect to warehouse/inventory maintenance, we found that there is a difference in intensity between U.S. and home markets which is not a sufficient basis to determine separate LOTs between the two markets. Therefore, we find that the U.S. LOT is similar to the home market LOT and an LOT adjustment or CEP offset is not necessary. See section 773(a)(7)(A) of the Act.

(B) Sunflag

We obtained information from Sunflag regarding the marketing stages involved in making the reported home market and U.S. sales, including a description of the selling activities performed for each channel of distribution. Our LOT findings are summarized below.

Sunflag reported three channels of distribution and a single LOT in the home market. Sunflag reported a single channel of distribution and a single LOT in the U.S. market. Sunflag claimed that its sales in both markets were at the same LOT. Sunflag did not request an LOT adjustment. See December 20, 2007, Supplemental Questionnaire Response (“SQR”) at 019, see also January 24, 2008, SQR at 005.

In the first home market channel of distribution (channel 1), Sunflag reported direct sales to end users and traders. See May 14, 2007, Section A Questionnaire Response at A-12. Sunflag indicated that channel 1 sales comprised the majority of its sales in the home market. Id. In the second home market channel of distribution (channel 2), Sunflag reported a small quantity of sales through its yards (distribution warehouses). Id. In the third home market channel of distribution (channel 3), Sunflag reported a very small quantity of sales through a consignment agent. Id. In the single channel of distribution for U.S. sales, Sunflag reported direct sales to end users and traders on a packed, CFR basis.

Sunflag reported that its prices did not vary based on channel of distribution or customer category. Id. at A-16. Sunflag reported that the channels of distribution are only used for the sake of logistics convenience. According to Sunflag, if at all, domestic prices vary with respect to each other based on the grade, type, market opportunities available, and competitor dynamics, not by channel of distribution or customer category. Id.

We examined the information reported by Sunflag regarding its sales processes for its home market and U.S. sales, including customer categories and the type and level of selling activities performed. Specifically, we considered the extent to which, for instance, sales process/marketing support, freight/delivery, inventory maintenance, and quality assurance/warranty service varied with respect to the different customer categories and channels of distribution across the markets. We concluded that the home market channels of distribution comprise one LOT. We also evaluated the U.S. channel of distribution and concluded that it also comprises one LOT. Next, we compared the U.S. LOT to the home market LOT. Sunflag reported that it sold to similar categories of customer (e.g., primarily end users and traders) in both the home market and the U.S. market. In Sunflag's home market channels of distribution, Sunflag reported similar selling activities, with the exception of commission expenses for channel 3 (consignment agent) sales, which comprised a very small quantity of Sunflag's home market sales. In all markets and channels of distribution, Sunflag reported similar levels of sales/marketing support, freight/delivery, inventory maintenance. Sunflag provided no quality assurance/warranty services in any of its channels of distribution. Therefore, we preliminarily find that Sunflag's sales in the home market and the United States were made at the same LOT.

C. Cost of Production Analysis

As discussed above, the petitioners provided a reasonable basis to believe or suspect that sales by DHE and Sunflag in their home markets had been made at prices below the COP within the meaning of section 773(b) of the Act and we initiated sales-below-cost investigations on July 24, 2007, and July 25, 2007, respectively. See DHE Sales-Below-Cost Memorandum, see also Sunflag Sales-Below-Cost Memorandum.

1. Calculation of COP

In accordance with section 773(b)(3) of the Act, we calculated the COP based on the sum of the cost of materials and fabrication for the foreign-like product, plus amounts for general and administrative (“G&A”) expenses, financial expenses, and comparison market packing costs, where appropriate. We note that Sunflag did not report costs for grades 304L, 316, and 316L in its February 8, 2008, cost database. Thus, these sales (1.6 percent of Sunflag's home market sales database) are not being used in these preliminary results. While we do not think the lack of costs for these grades affects the model matching, we intend to issue a supplemental questionnaire following the preliminary results to obtain Sunflag's costs for these grades of SSB for use in the final results. We relied on the COP data submitted by DHE and Sunflag except where noted below:

2. Individual Company Adjustments

(A) DHE

For DHE, we increased the direct material costs for each grade of merchandise sold by the difference between the raw material purchase prices incorporated in the reported COPs and the related raw material purchase prices for the final two months of the POR. See DHE Preliminary Results Calculation Memorandum.

(B) Sunflag

Sunflag did not report its cost for bright bar Grade 416 in its cost database. However, based on record information from Sunflag, we were able to construct Sunflag's cost to convert black bar to bright bar. Therefore, we added these conversion costs to Sunflag's Grade 416 black bar costs to derive Sunflag's bright bar costs for Grade 416 (which is the CONNUM sold in the United States). See Sunflag Preliminary Results Calculation Memorandum.

3. Results of the COP Test

Pursuant to section 773(b)(2)(C) of the Act, where less than 20 percent of a respondent's sales of a given product were at prices less than the COP, we did not disregard any below-cost sales of that product because we determined that the below-cost sales were not made in substantial quantities. Where 20 percent or more of a respondent's sales of a given product during the POR were at prices less than the COP, we determined such sales of that model were made in substantial quantities within an extended period of time in accordance with section 773(b)(2)(B) and (C) of the Act. Because we compared prices to the POR-average COP, we also determined that such sales were not made at prices which would permit recovery of all costs within a reasonable period of time, in accordance with section 773(b)(2)(D) of the Act. In such cases, for both DHE and Sunflag, we disregarded these below-cost sales of a given product and used the remaining sales as the basis for determining NV, in accordance with section 773(b)(1) of the Act.

D. Calculation of Normal Value Based on Home Market Prices

For DHE and Sunflag, we calculated NV based on ex-factory or delivered prices to unaffiliated customers in the home market. We made adjustments for differences in packing in accordance with sections 773(a)(6)(A) and 773(a)(6)(B)(i) of the Act, and we deducted movement expenses consistent with section 773(a)(6)(B)(ii) of the Act. In addition, where applicable, we made adjustments for differences in cost attributable to differences in physical characteristics of the merchandise pursuant to section 773(a)(6)(C)(ii) of the Act, as well as for differences in circumstances of sale (“COS”) in accordance with section 773(a)(6)(C)(iii) of the Act and 19 CFR 351.410. We also made adjustments, in accordance with 19 CFR 351.410(e), for indirect selling expenses incurred on comparison market or U.S. sales where commissions were granted on sales in one market but not in the other (the “commission offset”). Specifically, where commissions were granted in the U.S. market but not in the comparison market, we made a downward adjustment to NV for the lesser of (1) the amount of the commission paid in the U.S. market, or (2) the amount of indirect selling expenses incurred in the comparison market. If commissions were granted in the comparison market but not in the U.S. market, we made an upward adjustment to NV following the same methodology. We made adjustments to Sunflag's home market data, as discussed below.

We recalculated Sunflag's home market imputed credit expenses using the Department's standard formula. For certain home market sales, we increased the gross unit prices by the amount that the customer overpaid to Sunflag for Sunflag's reported inland freight expenses. We recalculated Sunflag's reported indirect selling expenses applying the Department's standard formula. See Sunflag Preliminary Results Calculation Memorandum.

Currency Conversion

We made currency conversions into U.S. dollars in accordance with section 773A(a) of the Act based on the exchange rates in effect on the dates of the U.S. sales as reported by the Federal Reserve Bank.

Preliminary Results of the Review

For the firms listed below, we find that the following weighted-average percentage margins exist for the period February 1, 2006, through January 31, 2007:

Exporter/Manufacturer | Margin
D.H. Exports Pvt. Ltd | 10.21
Sunflag Iron & Steel Co. Ltd | 6.08

Public Comment

Pursuant to 19 CFR 351.310(c), any interested party may request a hearing within 30 days of publication of this notice. Any hearing, if requested, will be held 42 days after the publication of this notice, or the first workday thereafter. Issues raised in the hearing will be limited to those raised in the case and rebuttal briefs. Pursuant to 19 CFR 351.309(c), interested parties may submit case briefs within 30 days of the date of publication of this notice. Rebuttal briefs, which must be limited to issues raised in the case briefs, may be filed not later than 35 days after the date of publication of this notice. See 19 CFR 351.309(d). Parties who submit case briefs or rebuttal briefs in this proceeding are requested to submit with each argument: (1) A statement of the issue, and (2) a brief summary of the argument with an electronic version included.

Assessment Rates

For DHE and Sunflag, if these preliminary results are adopted in the final results, we will instruct U.S. Customs and Border Protection (“CBP”) to assess antidumping duties on all appropriate entries. For these companies, the Department will issue appropriate assessment instructions directly to CBP 15 days after publication of the final results of review.

For the company rescinded from this review, Chandan, antidumping duties shall be assessed at rates equal to the cash deposit of estimated antidumping duties required at the time of entry, or withdrawal from warehouse, for consumption, in accordance with 19 CFR 351.212(c)(1)(i). The Department will issue appropriate assessment instructions directly to CBP 15 days after publication of these preliminary results of review.

Pursuant to 19 CFR 351.212(b)(1), for all sales made by respondents for which they have reported the importer of record and the entered value of the U.S. sales, we have calculated importer-specific assessment rates based on the ratio of the total amount of antidumping duties calculated for the examined sales to the total entered value of those sales. Where the respondents did not report the entered value for U.S. sales, we have calculated importer-specific assessment rates for the merchandise in question by aggregating the dumping margins calculated for all U.S. sales to each importer and dividing this amount by the total quantity of those sales.

To determine whether the duty assessment rates were de minimis (i.e., less than 0.50 percent) in accordance with the requirement set forth in 19 CFR 351.106(c)(2), we calculated importer-specific ad valorem rates based on the estimated entered value. Where the assessment rate is above de minimis, we will instruct CBP to assess duties on all entries of subject merchandise by that importer. Pursuant to 19 CFR 351.106(c)(2), we will instruct CBP to liquidate without regard to antidumping duties any entries for which the assessment rate is de minimis.

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon completion of the final results of this administrative review for all shipments of SSB from India entered, or withdrawn from warehouse, for consumption on or after the publication date of the final results of this administrative review, as provided by section 751(a)(1) of the Act: (1) The cash deposit rate for the reviewed companies will be the rate established in the final results of this administrative review (except no cash deposit will be required if its weighted-average margin is de minimis); (2) if the exporter is not a firm covered in this review, but was covered in a previous review or the original less than fair value (“LTFV”) investigation, the cash deposit rate will continue to be the company-specific rate published for the most recent period; and (3) if neither the exporter nor the manufacturer is a firm covered in this or any previous reviews, or the original LTFV investigation, the cash deposit rate will be the rate established for the most recent period for the manufacturer of the merchandise; and (4) the cash deposit rate for all other manufacturers and/or exporters of this merchandise, shall be 12.45 percent, the all-others rate established in the LTFV investigation. See Notice of Final Determination of Sales at Less Than Fair Value: Stainless Steel Bar from India, 59 FR 66915 (December 28, 1994).

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results of review in accordance with sections 751(a)(1) and 777(i)(1) of the Act.

Dated: September 28, 2008.
Stephen J. Claeys,
Acting Assistant Secretary for Import Administration.

[FR Doc. E8-4245 Filed 3-6-08; 8:45 am]

BILLING CODE 3510-DS-P